DEPARTMENT OF AGRICULTURE

Food and Nutrition Service

Agency Information Collection Activities: Supplemental Nutrition Assistance Program: Demonstration Projects

AGENCY: Food and Nutrition Service (FNS), USDA.

ACTION: Notice.

SUMMARY: In accordance with the Paperwork Reduction Act of 1995, this notice invites the general public and other public agencies to comment on this proposed information collection. This is a new collection without an assigned OMB control number for the Supplemental Nutrition Assistance Program (SNAP). This information collection is for activities associated with SNAP demonstration projects and the SNAP State Options Report, respectively.

DATES: Written comments must be received on or before June 7, 2024.

ADDRESSES: Comments may be sent to: Program Design Branch, Program Development Division, Food and Nutrition Service, U.S. Department of Agriculture, 1320 Braddock Place, 5th Floor, Alexandria, VA 22314. Comments may also be submitted via fax to the attention of Jessica Luna at 703-305-4391 or via email to SNAPPDBRules@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Jessica Luna at 703-305-4391.

SUPPLEMENTARY INFORMATION: Demonstration projects are pilot or experimental projects that waive requirements of the Food and Nutrition Act of 2008 (the Act) (7 U.S.C. 2011, et seq.) and SNAP regulations to test program changes to increase efficiency and improve the delivery of benefits to eligible households. Section 17(b) of the Act authorizes the Food and Nutrition Service (FNS) to approve demonstration projects. SNAP State agencies must request approval to operate demonstration projects and submit data reports to evaluate its impact. FNS may approve demonstration projects for a maximum five-year term and the projects must maintain cost neutrality and include an evaluation component. The SNAP State Options Report summarizes each State agency's policy choices concerning approximately 20 SNAP policy options and waivers. FNS produces the report on an annual basis and posts it on its public website.

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program: Demonstration Projects.

Form Number: N/A.

OMB Control Number: 0584-NEW.

Expiration Date: Not yet determined.

Type of Request: This is a new information collection without an assigned OMB control number in the Supplemental Nutrition Assistance Program (SNAP).

Abstract: This information collection concerns activities associated with both SNAP demonstration projects and the SNAP State Options Report. Demonstration projects allow State agencies to conduct approved pilot or experimental projects that waive requirements of the Food and Nutrition Act of 2008 (the Act) (7 U.S.C. 2011, et seq.) and SNAP regulations to test program changes to improve program administration, increase the self-sufficiency of SNAP recipients, and improve the delivery of benefits to eligible households. The Act limits the provisions that the Food and Nutrition Service (FNS) may waive. FNS may approve demonstration projects for a maximum five-year term, and they must maintain cost neutrality and include an evaluation component. Previously, this information has been collected without an OMB control number. This information collection seeks to come into compliance with the Paperwork Reduction Act for demonstration projects.

The SNAP State Options Report summarizes each State agency's policy choices concerning approximately 20 SNAP policy options and waivers. FNS produces the report on an annual basis and posts it on its public website. The most recent report, released in October 2023, is available via the following link: https://www.fns.usda.gov/snap/waivers/state-options-report. The report is designed for a wide range of audiences. Audiences include SNAP State agencies, State and federal policymakers, other social service programs, advocacy groups, and researchers. FNS currently develops the report using extant data maintained by FNS and information provided by State agencies through their State SNAP Plans of Operation. FNS seeks to improve the report through expanding the information included to better serve interested audiences. To do so, a limited amount of new information from State agencies needs to be collected. FNS seeks to account for the new burden these activities would place on State agencies through this information collection. Previously, this information has been collected without an OMB control number. This information collection seeks to come into compliance with the Paperwork Reduction Act for the State Options Report.

Demonstration Projects

FNS consulted with four State agencies to estimate the time State agency staff spent initiating a demonstration project, fulfilling operational requirements, and requesting project renewals. Demonstration project waivers require State agencies to prepare and submit to FNS new project requests, project modifications, and project renewal requests. States must also prepare and submit data reports as part of an evaluation component to measure the project's intended outcomes and benefits.

FNS and State agencies use an electronic system—the SNAP Waiver Information Management System (WIMS)—to:

Facilitate the request and response process between State agencies and FNS.

Track pending waiver requests, active and expired waivers, and waiver-related data reports.

Allow State agencies and FNS to communicate critical information about specific waivers in a central location.

Further, WIMS contains a virtual library which holds all the demonstration project request templates (e.g., initial, modification and extension), data report templates, and guidance documents which State agencies use to request projects and submit data reports.

Preparing and Submitting a New Demonstration Project Request

Demonstration projects test novel ideas and program innovations. State agencies undergo a research phase to determine the type of demonstration project they would like to implement. FNS works to guide and assist State agencies in researching and providing technical assistance prior to any submission of a request.

Once the State agency determines the demonstration project they would like to implement, they must then submit a request to operate the project in WIMS. The State agency opens a demonstration project case and fills out and submits a request template available in WIMS' virtual library. The templates guide the State agencies to specify the following information in their request, including:

The type of demonstration request (e.g., Standard Medical Deduction (SMD), Elderly Simplified Application Project (ESAP), Community Partner Interview (CPI), Combined Application Project (CAP), non-merit projects, or novel projects, among others).

The statutory and regulatory citations the demonstration project would waive.

The justification for requesting the demonstration project (e.g., lessen administrative burden and increase program access).

The description of alternative procedures that differ from regular SNAP, like eligibility, verification, and evaluation components for the demonstration project, among others.

An evaluation plan.

During this process, FNS engages with the State agency, providing technical assistance to identify and gain a mutual understanding of the terms and conditions of the waiver and the State's capacity to operate the demonstration project successfully. FNS may ask the State agency clarifying questions, as needed. If FNS approves the request, FNS will issue an approval letter and request an acknowledgement letter with the signature of the appropriate State official confirming the State agency can meet the terms and conditions of the approval.

To implement the demonstration project, State agencies often need to update their systems to appropriately administer demonstration projects. System updates may include, but are not limited to, updating the code to identify the intended project's population, applying alternative procedures, and enabling the State agency to pull cases and all relevant information for required data reports.

Additionally, demonstration projects may require alternative procedures that vary from the operation of SNAP under normal program rules. Therefore, implementing a demonstration project requires State agencies to update their policy manuals, develop training modules, and train their staff on the project's processes and requirements.

Preparing and Submitting Requests To Modify or Extend Demonstration Projects

If the State agency requires a modification to their demonstration project during the approval period, the State agency must complete and submit a modification request in WIMS. The State may need to answer clarifying questions from FNS to explain the proposed change to the current project approval and why it is needed. If approved, FNS issues a modification letter detailing the change and reasoning behind the modification and affirming that all other terms and conditions of the latest approval still apply to the demonstration project.

State agencies may also elect to extend approved projects by requesting to do so in WIMS. If the State agency wishes to extend their demonstration project under the previous approval's terms and conditions, the State agency does not need to submit a new request but inform FNS through WIMS. FNS will review the existing project's evaluation reports, ask clarification questions as needed and, if suitable, issue an approval. FNS will request the State agency submit acknowledgement of the extension via WIMS.

However, if the State agency wishes to propose different terms and conditions, or add a novel component to the project, the State agency must fill out and submit a new request in WIMS detailing the proposed changes. FNS will ask clarification questions as needed to gain understanding of the proposed changes or novel component. If FNS approves the extension request, FNS will issue an approval letter and request written confirmation in the form of an acknowledgement letter with the signature of the appropriate State official.

Preparing and Submitting Data Reports for Demonstration Projects

State agencies must submit data reports to FNS to assess the project's overall performance. The evaluation section of the demonstration project's approval detail the data report requirements. The evaluation section of the approval may include, but is not limited to, selecting a case sample, conducting case reviews, and validating the findings.

Data reports vary for each type of demonstration project. The most common types of reports are annual and cost-neutrality reports. Annual reports allow FNS to monitor demonstration project trends such as average caseload size, demographics data of the population in the demonstration (e.g., older adults and people with disabilities), timeliness, and payment error rates. Cost neutrality reports ensure that the implementation of a demonstration project does not significantly increase SNAP benefit costs. FNS must analyze program costs associated with demonstration projects to determine if any offsets are needed to protect Federal spending and maintain cost neutrality.

SNAP State Options Report

FNS consulted with six State agencies to estimate the time State agency staff would spend providing information for inclusion in the SNAP State Options Report. FNS's planned process of providing information would entail FNS posing a set of no more than 30 specific questions to State agencies concerning their State's implementation of various existing SNAP policy options. The questions asked may change each year as new policies and options are introduced or discontinued. In turn, State agencies would respond to FNS's set of questions with answers via an online form. FNS would solicit a response to the set of questions from each State agency once every 12-month period.

Total Reporting

Affected Public: State, Local and Tribal Government.

Respondent Type: SNAP State Agencies.

Estimated Number of Respondents: 53.

Estimated Number of Responses per Respondent: 1.8868.

Estimated Total Annual Responses: 100.

Estimated Time per Response: 130.370205.

Estimated Total Annual Burden on Respondents: 13037.0205.

Reference burden table below:

Respondent category | Type of respondent | Burden activity | Estimated number of respondents | Responses per respondent | Total annual responses | Estimated hours per response | Estimated total burden hours | Base hourly wage rate (see BLS) | Fully- loaded wage rate | Total Annualized cost of respondent burden
Reporting
State Government | SNAP State Agencies | Preparing and submitting a new demonstration project request | 10 | 1 | 10 | 1105.2308 | 11052.3080 | $24.05 | $31.99 | $353,524.65
State Government | SNAP State Agencies | Preparing and submitting modifications and extensions | 18 | 1 | 18 | 24.3000 | 437.4000 | 24.05 | 31.99 | 13,990.90
State Government | SNAP State Agencies | Preparing and submitting data reports | 19 | 1 | 19 | 81.4375 | 1547.3125 | 24.05 | 31.99 | 49,493.11
State Government | SNAP State Agencies | Responding to FNS question set | 53 | 1 | 53 | 2.0000 | 106.0000 | 24.05 | 31.99 | 3,390.57
Reporting Total Burden Estimates | 53 | 1.886792453 | 100 | 130.3702 | 13037.0205 | 24.05 | 31.99 | 417,008.66

Tameka Owens,
Assistant Administrator, Food and Nutrition Service.

[FR Doc. 2024-07377 Filed 4-5-24; 8:45 am]

BILLING CODE 3410-30-P